DEPARTMENT OF TRANSPORTATION

Office of the Secretary

Application of Schuman Aviation Company Ltd. D/B/A Makani Kai Helicopters D/B/A Ko Olina Helicopters D/B/A Pacific Air Express D/B/A Makani Kai Air Charters; For Commuter Authority

AGENCY: Department of Transportation.

ACTION: Notice of Order to Show Cause (Order 2010-6-17), Docket DOT-OST-2010-0006.

SUMMARY: The Department of Transportation is directing all interested persons to show cause why it should not issue an order finding Schuman Aviation Company Ltd. d/b/a Makani Kai Helicopters d/b/a Ko Olina Helicopters d/b/a Pacific Air Express d/b/a Makani Kai Air Charters fit, willing, and able, and awarding it Commuter Air Carrier Authorization.

DATES: Persons wishing to file objections should do so no later than June 30, 2010.

ADDRESSES: Objections and answers to objections should be filed in Docket DOT-OST-2010-0006 and addressed to U.S. Department of Transportation, Docket Operations, (M-30, Room W12-140), 1200 New Jersey Avenue, SE., West Building Ground Floor, Washington, DC 20590, and should be served upon the parties listed in Attachment A to the order.

FOR FURTHER INFORMATION CONTACT: Damon D. Walker, Air Carrier Fitness Division (X-56, Room W86-465), U.S. Department of Transportation, 1200 New Jersey Avenue, SE., Washington, DC 20590, (202) 366-7785.

Dated: June 16, 2010.
Susan L. Kurland,
Assistant Secretary, for Aviation and International Affairs.

[FR Doc. 2010-15028 Filed 6-21-10; 8:45 am]

BILLING CODE 4910-9X-P